DEPARTMENT OF VETERANS AFFAIRS

Request for Data and Information on Minority Veterans

AGENCY: Department of Veterans Affairs.

ACTION: Notice-request for information.

SUMMARY: The Department of Veterans Affairs (VA), Office of the Secretary, Center for Minority Veterans (CMV), is hereby giving notice of an opportunity for the public to provide available data and information on minority and historically underserved Veterans. Historically underserved Veterans includes racial and ethnic minority (Asian American; Black; Hispanic/Latino; Native American (including American Indian, Alaskan Native, and Native Hawaiian); or Pacific-Islander American); LGBTQ+; those whose religious or conscientious identity, beliefs, and practices have been determined to be underserved; language barriers or are without citizenship status; and those in rural areas and on tribal lands.

DATES: Comments must be received on or before August 21, 2023.

FOR FURTHER INFORMATION CONTACT: James Albino, Director, Center for Minority Veterans, Department of Veterans Affairs, 810 Vermont Ave. NW, Washington, DC 20420, email address: VACOCMV@va.gov, 202-461-0500. This is not a toll-free number.

ADDRESSES: Comments must be submitted through www.regulations.gov. Except as provided below, comments received before the close of the comment period will be available at www.regulations.gov for public viewing, inspection, or copying, including any personally identifiable or confidential business information that is included in a comment. We post the comments received before the close of the comment period on the following website as soon as possible after they have been received: http://www.regulations.gov. VA will not post on Regulations.gov public comments that make threats to individuals or institutions or suggest that the commenter will take actions to harm the individual. VA encourages individuals not to submit duplicative comments. We will post acceptable comments from multiple unique commenters even if the content is identical or nearly identical to other comments. Any public comment received after the comment period's closing date is considered late and will not be considered in a potential rulemaking.

SUPPLEMENTARY INFORMATION: The Advisory Committee for Minority Veterans (ACMV) and CMV were first authorized in 1994 to address disparities in the use of VA benefits and services for five racial/ethnic groups defined by statute specifying Veterans who identify as Asian American; Black; Hispanic; Native American*(including American Indian, Alaskan Native, and Native Hawaiian) or Pacific-Islander American. CMV identified that in addition to the current racial/ethnic groups, Veterans of Middle Eastern or North African descent and Veterans who identify as belonging to more than one race or ethnicity would benefit from being included in the list of groups served by CMV and ACMV. Additionally, with the input of various stakeholders, CMV identified additional groups of Veterans that have been historically underserved by the Department and designated “historically underserved” Veterans as those who are LGBTQ+ or are members in any religious faith that has been determined to be underserved. CMV invites the general public, educational institutions, Veteran serving organizations, non-profit/non-governmental organization and other Federal agencies that conduct research on and/or provide services to the aforementioned cohorts of Veterans to submit and/or comment on data and information on six priority areas: Demographic/Location data; Experience; Memorialization; Health; Benefits; Social Determinants of Health. CMV will utilize this input (information and comments, perhaps) to inform its effort to improve outreach, education, engagement, enrollment, advocacy and access programs for minority and underserved Veterans. CMV is specifically interested in evidence and research-based quantitative and qualitative information related to these six priority areas.

Background: CMV was established by Public Law 103-446 on November 2, 1994, in response to low utilization of VA benefits and services by minority Veterans. Public Law 103-446 defines “minority group member” as a Veteran who is: Asian American; Black; Hispanic/Latino; Native American (including American Indian, Alaskan Native and Native Hawaiian); or Pacific-Islander American. CMV is the Department of Veterans Affairs model for inter-and intra-agency co-operation, to ensure all Veterans receive equal service regardless of race, origin, religion or gender. CMV is focused on process improvement oriented for both internal and external customer-centric activities by assisting VA in executing its mission in the most equitable, efficient and humane way possible. CMV also supports the Administration and the VA's Secretary's Goals: Executive Order (E.O.) On Advancing Racial Equity and Support for Underserved Communities Through the Federal Government (E.O. 13985); VA Strategic Objective 2.1—Reaching all Veterans. Dignity and an acceptable quality of life are the products we seek to deliver to ALL Veterans no matter what their circumstance.

Request for Information: CMV invites the general public, educational institutions, Veteran-serving organizations, non-profit/non-governmental organization and other Federal agencies that conduct research on and/or provide services to the aforementioned cohorts of Veterans to submit and/or comment on data and information related to the following six priority areas: Demographic/Location data; Experience; Memorialization; Health; Benefits; Social Determinants of well-being. CVM requests available data and information on utilization, equity or demographic data and potential barriers that underserved communities may face in accessing and benefitting from the agency's policies, programs and activities on minority and historically underserved Veterans as identified. CMV will utilize this input to inform CMV's effort to improve outreach, education, engagement, enrollment, advocacy and access programs for minority and underserved Veterans. CMV is specifically interested in evidence and research based quantitative and qualitative information related to these six priority areas.

Respondents should provide data and information on any activities relevant to the identified cohort of Veterans in related to the six priority areas and those that capture equity-focused health; demographics/location; benefits; experience; social determinants of health; and memorialization.

Respondents to this request for data and information should include their name, affiliation (if applicable), mailing address, telephone, email and sponsoring organization (if any) with their communications. The deadline for receipt of the requested information is August 21, 2023.

Responses to this request are voluntary. No proprietary, classified, confidential or sensitive information should be included in responses. This request for information is for planning purposes only and is not a solicitation for applications or an obligation on the part of the U.S. Government to provide support for any ideas identified in response to the request. Please note that the U.S. Government will not pay for the preparation of any information submitted or for its use of that information.

Instructions: Response to this request for data and information is voluntary. Each individual or institution is requested to submit only one response. Electronic responses must be provided as attachments to your comment in regulations.gov. Comments of 7 pages or fewer (3,500 words) are requested; longer responses will not be considered. Responses should include the name of the person(s) or organization(s) filing the response. Responses containing references, studies, research and other empirical data that are not widely published should include copies of or electronic links to the referenced materials. Responses containing profanity, vulgarity, threats or other inappropriate language or content will not be considered.

Signing Authority

Denis McDonough, Secretary of Veterans Affairs, approved and signed this document on June 12, 2023, and authorized the undersigned to sign and submit the document to the Office of the Federal Register for publication electronically as an official document of the Department of Veterans Affairs.

Luvenia Potts,
Regulation Development Coordinator, Office of Regulation Policy & Management, Office of General Counsel, Department of Veterans Affairs.

[FR Doc. 2023-13067 Filed 6-16-23; 8:45 am]

BILLING CODE 8320-01-P